DEPARTMENT OF EDUCATION

34 CFR Chapter III

[Catalog of Federal Domestic Assistance (CFDA) Number: 84.326A]

Final Waiver and Extension of the Project Period for the Individuals With Disabilities Education Act Partnership Project

AGENCY: Office of Special Education Programs (OSEP), Office of Special Education and Rehabilitative Services, Department of Education.

ACTION: Final waiver and extension of the project period.

SUMMARY: The Secretary waives the requirements in the Education Department General Administrative Regulations that generally prohibit project periods exceeding five years and extensions of project periods involving the obligation of additional Federal funds. This waiver and extension of the project period enables the currently funded Individuals with Disabilities Education Act (IDEA) Partnership Project (Partnership Project) to receive funding from October 1, 2013, through September 30, 2014.

DATES: The waiver and extension of the project period are effective September 18, 2013.

FOR FURTHER INFORMATION CONTACT: Renee Bradley, U.S. Department of Education, 400 Maryland Avenue SW., Room 4103, Potomac Center Plaza, Washington, DC 20202-2600. Telephone: (202) 245-7277.

If you use a telecommunications device for the deaf or a text telephone, call the Federal Relay Service, toll free, at 1-800-877-8339.

SUPPLEMENTARY INFORMATION: On August 2, 2013, we published a notice in the Federal Register (78 FR 46858) proposing an extension of project period and a waiver of 34 CFR 75.250 and 75.261(a) and (c)(2) in order to—

(1) Enable the Secretary to provide additional funds to the currently funded Partnership Project for an additional 12-month period, from October 1, 2013, through September 30, 2014; and

(2) Request comments on the proposed extension of project period and waiver.

There are no substantive differences between the proposed waiver and extension and this final waiver and extension.

Public Comment

In response to our invitation in the notice of proposed waiver and extension of the project period, we did not receive any substantive comments. Generally, we do not address comments that raise concerns not directly related to the proposed waiver and extension of project period.

Background

On July 15, 2008, the Department published a notice in the Federal Register (73 FR 40548) inviting applications for new awards for fiscal year (FY) 2008 for the Partnership Project funded under the Technical Assistance and Dissemination to Improve Services and Results for Children With Disabilities (TA&D) program, authorized under section 663 of IDEA. The Partnership Project is intended to provide opportunities for national associations to collaborate with each other and with their collective State and local affiliates to improve the implementation of education policies and practices in States. The goal of the Partnership Project is also intended to bridge the gap between research, policy, and practice in both special education and general education so that the needs of all students can be meaningfully addressed. The Partnership Project has worked to unite multiple national associations and their State and local affiliates, representing policymakers, service providers, local-level administrators, and families, to improve the implementation of IDEA and outcomes for students with disabilities. These associations and their State and local affiliates need continued support to engage in meaningful dialogue, continual learning, and problem solving that will improve the implementation of IDEA and outcomes for students with disabilities.

The Department made one award for a period of 60 months to the National Association of State Directors of Special Education (NASDSE) to establish the Partnership Project. The current project period is scheduled to end on September 30, 2013.

The Partnership Project links the expertise and resources available through the OSEP Technical Assistance and Dissemination Network with stakeholder organizations to build innovative dissemination strategies. The Partnership Project has developed and enhanced tools and strategies to improve the collaboration and engagement of stakeholder organizations linked with State improvement efforts to implement evidence-based practices, improve the implementation of IDEA, and improve outcomes for children with disabilities within general education reform efforts. Engagement tools and strategies include: (1) Various Dialogue Guides, focused on education reform efforts such as standards-based assessment, college- and career-readiness, and the school-to-prison pipeline; (2) communities of practice development and implementation; and (3) stakeholder engagement protocols.

At this time, we do not believe that it would be in the public interest to run a competition for a new Partnership Project because the Department is planning to change the organization of its technical assistance (TA) activities to better meet the needs of States and local affiliates and families. We also have concluded that it would be contrary to the public interest to have a lapse in the provision of the TA services currently provided by the Partnership Project pending the changes to the organization of the Department's TA activities.

For these reasons, the Secretary waives the requirements in 34 CFR 75.250, which prohibit project periods exceeding five years, and waives the requirements in 34 CFR 75.261(a) and (c)(2), which allow the extension of a project period only if the extension does not involve the obligation of additional Federal funds. The waiver allows the Department to issue a continuation award in the amount of $1,699,000 to NASDSE for an additional 12-month period. This continuation award should ensure that the Partnership Project's TA, coordinated training, outreach, and dissemination of information to the partners' State and local affiliates and families will not be interrupted.

Any activities to be carried out during the year of the continuation award would have to be consistent with, or be a logical extension of, the scope, goals, and objectives of the grantee's application as approved in the 2008 Partnership Project competition.

The requirements applicable to continuation awards for this competition set forth in the July 15, 2008, notice inviting applications and the requirements in 34 CFR 75.253 apply to any continuation awards sought by the current IDEA Partnership grantee. We base our decisions regarding a continuation award on the program narrative, budget, budget narrative, and program performance report submitted by the current grantee, as well as the requirements in 34 CFR 75.253.

Waiver of Delayed Effective Date

The Administrative Procedure Act requires that a substantive rule must be published at least 30 days before its effective date, except as otherwise provided for good cause (5 U.S.C. 553(d)(3)). We received no substantive comments on the proposed waiver and extension of project period, and we have not made any substantive changes to the proposed waiver and extension of project period. The Secretary has made a determination to waive the delayed effective date to ensure provision of TA services currently provided by the Partnership Project pending the changes to the organization of the Department's TA activities.

Regulatory Flexibility Act Certification

The Secretary certifies that this waiver and extension of the project period would not have a significant economic impact on a substantial number of small entities.

The only entity that would be affected by this waiver and extension of the project period is the current grantee.

The Secretary certifies that this waiver and final extension would not have a significant economic impact on this entity because the extension of an existing project imposes minimal compliance costs, and the activities required to support the additional year of funding would not impose additional regulatory burdens or require unnecessary Federal supervision.

Paperwork Reduction Act of 1995

This notice of final waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 13, 2013.
Sue Swenson,
Deputy Assistant Secretary for Special Education and Rehabilitative Services, delegated the authority to perform the functions and duties of the Assistant Secretary for Special Education and Rehabilitative Services.

[FR Doc. 2013-22715 Filed 9-17-13; 8:45 am]

BILLING CODE 4000-01-P